DEPARTMENT OF COMMERCE

International Trade Administration

[A-201-844]

Steel Concrete Reinforcing Bar From Mexico: Final Results of Antidumping Duty Administrative Review and Final Determination of No Shipments; 2018-2019

AGENCY: Enforcement and Compliance, International Trade Administration, Department of Commerce.

SUMMARY: The Department of Commerce (Commerce) determines that steel concrete reinforcing bar (rebar) from Mexico was sold in the United States at less than normal value during the period of review (POR), November 1, 2018, through October 31, 2019. In addition, Commerce determines that Ternium Mexico, S.A. de C.V. (Ternium) had no shipments of subject merchandise during the POR.

DATES: Applicable September 9, 2021.

FOR FURTHER INFORMATION CONTACT: David Lindgren, AD/CVD Operations, Office III, Enforcement and Compliance, International Trade Administration, U.S. Department of Commerce, 1401 Constitution Avenue NW, Washington, DC 20230; telephone: (202) 482-1671.

SUPPLEMENTARY INFORMATION:

Background

On March 23, 2021, Commerce published the Preliminary Results.¹ On April 22, 2021, Commerce received case briefs on behalf of the petitioners ² and Deacero S.A.P.I. de C.V. (Deacero). On April 29, 2021, the petitioners and Deacero submitted rebuttal briefs.

¹ See Steel Concrete Reinforcing Bar from Mexico: Preliminary Results of Antidumping Duty Administrative Review and Preliminary Determination of No Shipments; 2018-2019, 86 FR 15458 (March 23, 2021) (Preliminary Results), and accompanying Preliminary Decision Memorandum.

² The petitioners are the Rebar Trade Action Coalition (RTAC) and its individual members, Nucor Corporation, Ameristeel US Inc., Commercial Metals Company, Cascade Steel Rolling Mills, Inc. and Byer Steel Corporation (the petitioners).

Commerce extended the deadline for the final results by 58 days on June 22, 2021.³ The deadline for the final results of this review is now September 17, 2021. For a complete description of the events that occurred since the Preliminary Results, see the Issues and Decision Memorandum.⁴

³ See Memorandum, “Steel Concrete Reinforcing Bar from Mexico: Antidumping Duty Administrative Review; 2018-2019; Extension of Deadline for Final Results,” dated June 22, 2021.

⁴ See Memorandum, “Steel Concrete Reinforcing Bar from Mexico: Issues and Decision Memorandum for the Final Results of Antidumping Duty Administrative Review; 2018-2019,” dated concurrently with, and hereby adopted by, this notice (Issues and Decision Memorandum).

Scope of the Order

The product covered by the order is steel concrete reinforcing bar from Mexico. For a complete description of the scope, see the Issues and Decision Memorandum.

Analysis of Comments Received

All issues raised in the case and rebuttal briefs are addressed in the Issues and Decision Memorandum. A list of the issues that parties raised and to which we responded in the Issues and Decision Memorandum is attached to this notice as an Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html/.

Determination of No Shipments

As noted in the Preliminary Results, we received a no-shipment claim from Ternium. In the Preliminary Results, we preliminarily determined that Ternium had no shipments during the POR. We received no comments from interested parties with respect to this claim. Therefore, we continue to find that Ternium had no shipments during the POR.

Changes Since the Preliminary Results

Based on a review of the record and comments received from interested parties, we: (1) Corrected an error in Commerce's dumping margin programming when calculating the weighted-average dumping margin for Deacero; (2) used a revised U.S. sales database; (3) updated the date assigned to U.S. sales without a reported payment date; and (4) updated our calculation of the cost of scrap.⁵

⁵ Id. at 2-3 and Comments 4, 5 and 6.

Rates for Companies Not Selected for Individual Examination

The statute and Commerce's regulations do not address the establishment of a rate to be applied to individual companies not selected for examination when Commerce limits its examination in an administrative review pursuant to section 777A(c)(2) of the Tariff Act of 1930, as amended (the Act). Generally, Commerce looks to section 735(c)(5) of the Act, which provides instructions for calculating the all-others rate in an investigation, for guidance when calculating the rate for companies which we did not examine in an administrative review. Section 735(c)(5)(A) of the Act establishes a preference to avoid using rates which are zero, de minimis, or based entirely on facts available (FA) in calculating an all-others rate. Accordingly, Commerce's practice in administrative reviews has been to average the weighted-average dumping margins for the companies selected for individual examination in the annual review, excluding rates that are zero, de minimis, or based entirely on FA.⁶ For these final results of review, we calculated a weighted-average dumping margin for Deacero that is above de minimis and not based entirely on FA. Therefore, consistent with our practice, we have assigned the companies not selected for individual examination the weighted-average dumping margin calculated for Deacero.

⁶ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

Final Results of the Review

Commerce determines that the following weighted-average dumping margins exist for the period November 1, 2018, through October 31, 2019:

Producer and/or exporter | Weighted-average dumping margin (percent)
Deacero S.A.P.I de C.V.⁷ | 4.93
Review-Specific Average Rate Applicable to the Following Companies: |
Grupo Simec (Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V.)⁸ | 4.93
AceroMex S.A | 4.93
Arcelor Mittal | 4.93
ArcelorMittal Celaya | 4.93
ArcelorMittal Cordoba S.A. de C.V | 4.93
ArcelorMittal Lazaro Cardenas S.A. de C.V | 4.93
Cia Siderurgica de California, S.A. de C.V | 4.93
Compania Siderurgica de California, S.A. de C.V | 4.93
Grupo Villacero S.A. de C.V | 4.93
Industrias CH | 4.93
Siderurgica Tultitlan S.A. de C.V | 4.93
Talleres y Aceros, S.A. de C.V | 4.93

Assessment Rate

⁷ This also applies to any entries made under the name DE ACERO SA. DE CV. While the petitioner requested a review of both DE ACERO SA. DE CV. and Deacero, Commerce has previously determined that DE ACERO SA. DE CV. is the same company as Deacero and therefore, we are treating DE ACERO SA. DE CV. as the same as Deacero. See, e.g., Steel Concrete Reinforcing Bar from Mexico: Final Results of Antidumping Duty Administrative Review; 2017-2018, 85 FR 71053 (November 6, 2020) (2017-2018 AR Mexico Rebar Final), at 71053-71054.

⁸ Commerce has previously collapsed the following entities into a single entity: Grupo Simec; Aceros Especiales Simec Tlaxcala, S.A. de C.V.; Compania Siderurgica del Pacifico S.A. de C.V.; Fundiciones de Acero Estructurales, S.A. de C.V.; Grupo Chant S.A.P.I. de C.V.; Operadora de Perfiles Sigosa, S.A. de C.V.; Orge S.A. de C.V.; Perfiles Comerciales Sigosa, S.A. de C.V.; RRLC S.A.P.I. de C.V.; Siderúrgicos Noroeste, S.A. de C.V.; Siderurgica del Occidente y Pacifico S.A. de C.V.; Simec International 6 S.A. de C.V.; Simec International, S.A. de C.V.; Simec International 7 S.A. de C.V.; and Simec International 9 S.A. de C.V. See, e.g., 2017-2018 AR Mexico Rebar Final, 85 FR at 71053-71054.

Pursuant to section 751(a)(2)(A) of the Act, and 19 CFR 351.212(b)(1), Commerce shall determine, and U.S. Customs and Border Protection (CBP) shall assess, antidumping duties on all appropriate entries covered by this review.

Because Deacero's weighted-average dumping margin is not zero or de minimis (i.e., less than 0.5 percent), Commerce has calculated importer-specific antidumping duty assessment rates. We calculated importer-specific antidumping duty assessment rates by aggregating the total amount of dumping calculated for the examined sales of each importer and dividing each of these amounts by the total sales value associated with those sales. Where either the respondent's weighted-average dumping margin is zero or de minimis within the meaning of 19 CFR 351.106(c)(1), or an importer-specific assessment rate is zero or de minimis, we will instruct CBP to liquidate the appropriate entries without regard to antidumping duties.

For entries of subject merchandise during the POR produced by Deacero where the producer did not know its merchandise was destined for the United States, or for entries associated with Ternium, who had no shipments during the POR, we will instruct CBP to liquidate unreviewed suspended entries, consistent with the reseller policy, at the all-others rate if there is no rate for the intermediate company(ies) involved in the transaction.⁹

⁹ For a full discussion of this practice, see Antidumping and Countervailing Duty Proceedings: Assessment of Antidumping Duties, 68 FR 23954 (May 6, 2003).

The assessment rate for antidumping duties for each of the companies not selected for individual examination, will be equal to the weighted-average dumping margin identified above in the Final Results of Review.

Commerce intends to issue assessment instructions to CBP no earlier than 41 days after the date of publication of the final results of this review in the Federal Register, in accordance with 19 CFR 356.8(a).

Cash Deposit Requirements

The following cash deposit requirements will be effective for all shipments of the subject merchandise entered, or withdrawn from warehouse, for consumption on or after the publication date of the final results of this administrative review, as provided by section 751(a)(2)(C) of the Act: (1) The cash deposit rates for the companies identified above in the Final Results of Review will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 20.58 percent, the rate established in the investigation of this proceeding.¹⁰ These cash deposit requirements, when imposed, shall remain in effect until further notice.

¹⁰ See Steel Concrete Reinforcing Bar from Mexico: Final Determination of Sales at Less Than Fair Value and Final Affirmative Determination of Critical Circumstances, 79 FR 54967 (September 15, 2014).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: September 1, 2021.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Whether to Grant Deacero a CEP Offset

Comment 2: Whether to Apply Adverse Facts Available to U.S. Freight Expenses

Comment 3: Whether Section 232 Duties Should be Deducted from U.S. Price

Comment 4: Whether to Correct for a Macro Programming Error

Comment 5: Whether to Rely on Deacero's Revised U.S. Sales Database

Comment 6: Whether to Include Certain Items in the Calculation of Scrap Costs

Comment 7: Whether to Make Adjustments to the Scrap Offset Calculation

VI. Recommendation

[FR Doc. 2021-19406 Filed 9-8-21; 8:45 am]

BILLING CODE 3510-DS-P